DEPARTMENT OF ENERGY

Federal Energy Regulatory Commission

[Docket No. ER99-1757-004, et al.]

The Empire District Electric Company, et al.; Electric Rate and Corporate Filings

May 5, 2003.

The following filings have been made with the Commission. The filings are listed in ascending order within each docket classification.

1. The Empire District Electric Company

[Docket No. ER99-1757-004]

Take notice that on May 1, 2003, Empire District Electric Company (Empire) submitted certain information intended to supplement the Supply Margin Assessment submitted March 25, 2003, in support of Empire's February 4, 2003, updated market power analysis. Empire also submitted a correction to the revised version of market-based rate tariff that was included as part of the March 25 Filing.

Comment Date: May 22, 2003.

2. ISO New England Inc.

[Docket No. ER01-316-009]

Take notice that on May 1, 2003, ISO New England Inc. (the ISO) submitted for filing its Index of Customers for first quarter of 2003 under the ISO's FERC Tariff for Transmission Dispatch and Power Administration Services.

The ISO states that copies have been served on all parties in Docket No. ER01-316-000.

Comment Date: May 22, 2003.

3. New England Power Pool

[Docket No. ER03-562-001]

Take notice that on May 1, 2003, the New England Power Pool (NEPOOL) Participants Committee filed a Report of Compliance with respect to the April 4, 2003, letter order, issued in Docket No. ER03-562-000. NEPOOL submitted revised tariff sheets to the Ninety-Fifth Agreement Amending Restated NEPOOL Agreement. NEPOOL states that the revised tariff sheets reflect a modification to the discussion of Excepted Transactions 21 and 23 in the Addendum to Attachment G to the NEPOOL Open Access Transmission Tariff requested by intervenors MASSPOWER and Pittsfield Generating LLP.

NEPOOL states that copies of these materials were sent to the NEPOOL participants, non-participant transmission customers and the New England State governors and regulatory commissions.

Comment Date: May 22, 2003.

4. Aquila Piatt County Power L.L.C.

[Docket No. ER03-725-001]

Take notice that on May 1, 2003, Aquila Piatt County Power L.L.C. filed a supplement to its application in Docket No. ER03-725-000 revising the language in its proposed rate schedule.

Comment Date: May 22, 2003.

5. Oncor Electric Delivery Company

[Docket No. ER03-799-000]

Take notice that on May 1, 2003, Oncor Electric Delivery Company (Oncor) tendered for filing four transmission service agreements entered into between Oncor and Cargill Power Markets, LLC, Calpine Energy Service, L.P., Constellation Power Source, Inc., and TXU Portfolio Management Company LP under Oncor's Tariff for Transmission Service To, From and Over Certain Interconnections (TFO Tariff).

Oncor seeks waiver of the Commission's notice requirements to permit the transmission service agreements to be effective on the date of the commencement of service. Oncor states that this filing has been served upon each customer taking service under the agreements and the Public Utility Commission of Texas.

Comment Date: May 22, 2003.

6. Southern California Edison Company

[Docket No. ER03-800-000]

Take notice that on May 1, 2003, Southern California Edison Company (SCE) tendered for filing a Letter Agreement between SCE and the Mountainview Power Company L.L.C. (Mountainview) to supplement the terms of the Interconnection Facilities Agreement between SCE and Mountainview, Service Agreement No. 6 under SCE's Transmission Owner Tariff (TO Tariff).

SCE states that copies of this filing were served upon the Public Utilities Commission of the State of California and Mountainview.

Comment Date: May 22, 2003.

7. Ohio Power Company

[Docket No. ER03-801-000]

Take notice that on May 1, 2003, American Electric Power Service Corporation (AEPSC) tendered for filing pursuant to section 35.15 of the Federal Energy Regulatory Commission's Regulations, a notice of cancellation of Ohio Power Company FERC Electric Rate Schedule No. 71 consisting of an agreement between Ohio Power Company and the Ohio Edison Company. AEPSC requests an effective date of June 30, 2003, for the cancellation.

AEPSC served copies of the filing upon the Ohio Edison Company and upon the Public Utilities Commission of Ohio.

Comment Date: May 22, 2003.

8. Black Hills Wyoming, Inc.

[Docket No. ER03-802-000]

Take notice that on April 30, 2003, Black Hills Wyoming, Inc. (Black Hills Wyoming), submitted to the Federal Energy Regulatory Commission (FERC or Commission) a notice of succession notifying the Commission that is has succeeded, by reason of name change, to the market-based rate wholesale power sales rate schedule (the Rate Schedule) of Black Hills Generation, Inc., Rate Schedule FERC No. 1. In addition, Black Hills Wyoming states that it filed the Rate Schedule, updated as appropriate and in conformance with Order Nos. 614 and 2001, as Black Hills Wyoming, Inc., Rate Schedule FERC No. 1.

Comment Date: May 21, 2003.

9. Panda Guadalupe Power Marketing, LLC

[Docket No. ER03-803-000]

Take notice that on May 1, 2003, Panda Guadalupe Power Marketing, LLC tendered for filing in Docket No. ER03-803-000, a Notice of Termination and a Notice of Cancellation of Rate Schedule FERC No. 1.

Comment Date: May 22, 2003.

10. Virginia Electric and Power Company

[Docket No. ER03-804-000]

Take notice that May 1, 2003, Virginia Electric and Power Company, doing business as Dominion Virginia Power (Dominion Virginia Power) tendered for filing an executed First Revised Network Integration Transmission Service Agreement (NITSA) including an executed revised Network Operating Agreement (collectively, Revised NITSA) between Dominion Virginia Power and Old Dominion Electric Cooperative (ODEC).

Dominion Virginia Power requests that the Commission accept the Revised NITSA for filing and make it effective on April 1, 2003. Dominion Virginia Power states that copies of the filing were served upon ODEC and the Virginia State Corporation Commission.

Comment Date: May 22, 2003.

11. Sierra Pacific Power Company Nevada Power Company

[Docket No. ER03-806-000]

Take notice that on May 1, 2003, Sierra Pacific Power Company and Nevada Power Company (collectively, Applicants ) tendered for filing pursuant to section 205 of the Federal Power Act and section 35 of the Commission's regulations, a revised Attachment K (Sheet Nos. 254-57) to Sierra Pacific Resources Operating Companies FERC Electric Tariff, Third Revised Volume No. 1. The Applicants state that the revision is being filed to establish distribution loss factors in connection with their implementation of retail access in Nevada.

Comment Date: May 22, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-11943 Filed 5-13-03; 8:45 am]

BILLING CODE 6717-01-P